DEPARTMENT OF TRANSPORTATION

Federal Aviation Administration

14 CFR Part 39

[Docket No. 2004-SW-12-AD; Amendment 39-13884; AD 2004-24-08]

RIN 2120-AA64

Airworthiness Directives; Bell Helicopter Textron Canada Model 206A, B, L, L-1, L-3, and L-4 Helicopters

AGENCY: Federal Aviation Administration, DOT.

ACTION: Final rule; request for comments.

SUMMARY: This amendment adopts a new airworthiness directive (AD) for the specified Bell Helicopter Textron Canada (BHTC) model helicopters. This action requires an initial inspection and, at specified intervals, certain repetitive checks and inspections of the tail rotor blade (blade) for a deformation, a crack, and a bent or deformed tail rotor weight (weight). Also, this action requires, before further flight, replacing each blade with an airworthy blade if a deformation, a crack, or a bent or deformed weight is found. This amendment is prompted by three reports of skin cracks originating near the blade trailing edge balance weight. This condition, if not detected, could result in blade failure and subsequent loss of control of the helicopter.

DATES: Effective December 16, 2004.

Comments for inclusion in the Rules Docket must be received on or before January 31, 2005.

ADDRESSES: Submit comments in triplicate to the Federal Aviation Administration (FAA), Office of the Regional Counsel, Southwest Region, Attention: Rules Docket No. 2004-SW-12-AD, 2601 Meacham Blvd., Room 663, Fort Worth, Texas 76137. You may also send comments electronically to the Rules Docket at the following address: 9-asw-adcomments@faa.gov.

FOR FURTHER INFORMATION CONTACT: Sharon Miles, Aviation Safety Engineer, FAA, Rotorcraft Directorate, Regulations and Guidance Group, Fort Worth, Texas 76193-0111, telephone (817) 222-5122, fax (817) 222-5961.

SUPPLEMENTARY INFORMATION: This amendment adopts a new AD for the specified BHTC model helicopters. This action requires an initial inspection and certain repetitive checks and inspections of the blade, at specified intervals, for a deformation, a crack, and a bent or deformed weight. Also, this action requires, before further flight, replacing each blade with an airworthy blade if a deformation, a crack, or a bent or deformed weight is found. This amendment is prompted by three reports of skin cracks originating near the blade trailing edge balance weight. In two reports, a loss of the weight and a strip of material along the trailing edge led to an imbalance and fracture of three of the four tail rotor gearbox attachment bolts. In one of these incidents the gearbox shifted resulting in failure of the drive shaft and loss of yaw control. This condition, if not detected, could result in blade failure and subsequent loss of control of the helicopter.

BHTC has issued Alert Service Bulletin No. 206-04-100 for Model 206A and B and No. 206L-04-127 for Model 206L series helicopters, both Revision B, both dated May 28, 2004. These service bulletins specify checking and inspecting the blades for a deformation, a crack, and a bent or deformed weight and a one-time inspection by Rotor Blades Inc. in Louisiana, USA, and if the blades pass the one-time inspection, adding a “V” at the end of the serial number. The service bulletins also specify replacing any blade with a deformation, a crack, or bent or deformed weight.

Transport Canada, the airworthiness authority for Canada, notified the FAA that an unsafe condition may exist on these helicopter models. Transport Canada advises of three reports of skin cracks originating near the blade trailing edge balance weight. Two of the occurrences caused a loss of the weight and a strip of material along the trailing edge leading to an imbalance, which caused the fracture of three of the four tail rotor gearbox attachments. One of these occurrences resulted in the gearbox shifting that caused failure of the drive shaft and resulting loss of yaw control. Transport Canada classified the alert service bulletins as mandatory and issued AD No. CF-2004-05R1, dated June 28, 2004, to ensure the continued airworthiness of these helicopters in Canada.

These helicopter models are manufactured in Canada and are type certificated for operation in the United States under the provisions of 14 CFR 21.29 and the applicable bilateral agreement. Pursuant to the applicable bilateral agreement, Transport Canada has kept the FAA informed of the situation described above. The FAA has examined the findings of Transport Canada, reviewed all available information, and determined that AD action is necessary for products of these type designs that are certificated for operation in the United States.

This unsafe condition is likely to exist or develop on other helicopters of the same type designs registered in the United States. Therefore, the FAA is issuing this AD to detect a blade with a deformation, a crack, or a bent or deformed weight and to prevent blade failure and subsequent loss of control of the helicopter. This AD requires the following for the specified BHTC helicopters with certain blade part numbers and serial numbers:

• Before further flight, unless accomplished previously, and before installing any blade with an affected part number and serial number, cleaning the blade. Then, using a 10X or higher magnifying glass, inspecting both sides of each blade for a deformation, a crack, and a bent or deformed weight.

• Thereafter, cleaning both sides of each blade and using a 10X or higher magnifying glass, inspecting for a deformation, a crack, and a bent or deformed weight as follows:

○ At intervals not to exceed 12 hours time-in-service (TIS), or

○ At intervals not to exceed 24 hours TIS and checking both sides of each blade for a deformation, a crack, and a bent or deformed weight at intervals not to exceed 3 hours TIS between inspections. An owner/operator (pilot) may perform the 3-hour TIS check for deformed or cracked blades and for bent or deformed weights. Pilots may perform these checks because they require no tools, can be done by observation, and can be done equally well by a pilot or a mechanic. However, the pilot must enter compliance with these requirements into the helicopter maintenance records by following 14 CFR 43.11 and 91.417(a)(2)(v).

• Before further flight, replacing each blade with an airworthy blade if you find a deformation, a crack, or a bent or deformed weight.

The short compliance time involved is required because the previously described critical unsafe condition can adversely affect the controllability and structural integrity of the helicopter. Therefore, inspecting the blade, for a deformation, a crack, and a bent or deformed weight is required before further flight and at short specified time intervals, and this AD must be issued immediately.

Since a situation exists that requires the immediate adoption of this regulation, it is found that notice and opportunity for prior public comment hereon are impracticable, and that good cause exists for making this amendment effective in less than 30 days.

The FAA estimates that this AD will:

• Affect 2194 helicopters.

• Take about ¼ work hour for a blade check or inspection and 3 work hours to replace one blade at an average labor rate of $65 per work hour.

• Required parts will cost about $5,848 per helicopter. (The service bulletin states that warranty credit will be given based on hour usage on the blade with remaining life hours and other restrictions.) Based on these figures, the total estimated cost impact of the AD on U.S. operators is $21,315,807, assuming 226 checks or inspections and replacing one blade on each helicopter in the fleet.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2004-SW-12-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final economic evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2004-24-08 Bell Helicopter Textron Canada: Amendment 39-13884. Docket No. 2004-SW-12-AD.

Applicability: Model 206A, B, L, L-1, L-3, and L-4 helicopters, with a tail rotor blade (blade) with the following part number (P/N) and serial number (S/N) installed, certificated in any category.

Model 206A & B; Blade, P/N 206-016-201-133, S/N with prefix “CS” and no “V” suffix | Model 206A, B, L, L-1, L-3, & L-4, Blade, P/N 206-016-201-131, S/N with prefix “CS” and no “V” suffix
1381 through 1442 | 7000 through 7018 | 10174 through 10218.
1492 through 1517 | 7020 through 7043 | 10220.
1520 through 1542 | 7045 through 7050 | 10232.
1550 | 7052 through 7132 | 10235.
1556 | 7134 through 7246 | 10237 through 10241.
1560 | 7248 through 7270 | 10244.
1562 | 7272 through 7277 | 10245.
1564 through 1567 | 7279 through 7339 | 10248.
1569 through 1606 | 7342 through 7368 | 10250 through 10264.
1609 | 7784 | 10266 through 10268.
1611 | 7786 | 10270 through 10274.
1612 | 7788 | 10276 through 10278.
1614 through 1631 | 7790 through 7796 | 10280 through 10282.
1633 through 1675 | 7798 through 7819 | 10284 through 10292.
1677 | 7821 through 7833 | 10296.
1678 | 7835 through 7839 | 10300 through 10330.
1680 through 1682 | 7841 through 8001 | 10332.
1684 through 1787 | 8003 through 8026 | 10333.
1789 through 1803 | 8029 through 8061 | 10335 through 10347.
1810 through 1812 | 8064 through 8117 | 10349.
1814 | 8119 | 10351 through 10359.
1816 | 8121 through 8139 | 10363 through 10365.

Model 206A & B; Blade, P/N 206-016-201-133, S/N with prefix “CS” and no “V” suffix | Model 206A, B, L, L-1, L-3, & L-4, Blade, P/N 206-016-201-131, S/N with prefix “CS” and no “V” suffix
1820 | 8142 through 8176 | 10367. | 1823 through 1831 | 8178 through 8262 | 10373.
1834 through 1836 | 8264 through 8294 | 10374.
1838 | 8298 through 8368 | 10377 through 10385.
1840 through 1844 | 8370 through 8375 | 10387 through 10408.
1846 | 8378 through 8416 | 10410.
1848 through 1882 | 8419 | 10414 through 10417.
1884 through 1887 | 8421 | 10419 through 10427.
1889 through 1893 | 8425 through 8428 | 10430.
1896 through 1898 | 8430 through 8438 | 10432.
1900 | 8440 | 10437.
1904 | 8441 | 10438.
1909 through 1912 | 8443 | 10442 through 10445.
1915 | 8445 through 8447 | 10458 through 10466.
1916 | 8449 through 8606 | 10469.
1919 through 1921 | 8608 through 8622 | 10470.
1924 | 8624 through 8626 | 10474.
1928 through 1931 | 8628 through 8632 | 10476 through 10478.
1933 | 8635 through 8653 | 10480 through 10487.
1934 through 1939 | 8655 through 8686 | 10489 through 10491.
1943 | 8690 | 10493 through 10495.
1945 | 8692 through 8700 | 10497 through 10503.
1947 | 8703 through 8715 | 10505 through 10588.
1948 | 8717 through 8722 | 10591 through 10606.
1952 through 1957 | 8724 through 8742 | 10608 through 10610.
1960 | 8745 through 8828 | 10612 through 10620.
1962 through 1965 | 8830 through 8835 | 10623.
| 8838 through 8840 | 10624.
| 8842 through 8881 | 10631 through 10655.
| 8883 through 9032 | 10657 through 10669.
| 9034 through 9139 | 10672.
| 9141 through 9198 | 10673.
| 9200 | 10676 through 10678.
| 9202 through 9302 | 10680 through 10683.
| 9304 through 9339 | 10685.
| 9341 through 9371 | 10687.
| 9373 through 9411 | 10689 through 10702.
| 9413 | 10707.
| 9415 through 9417 | 10712.
| 9419 through 9496 | 10715.
| 9498 through 9585 | 10730.
| 9587 through 9594 | 10732 through 10734.
| 9596 through 9618 | 10736.
| 9621 through 9629 | 10738.
| 9632 through 9642 | 10739.
| 9645 through 9651 | 10746.
| 9653 through 9673 | 10750.
| 9675 through 9707 | 10756.
| 9709 through 9724 | 10760.
| 9727 through 9731 | 10761.
| 9733 through 9735 | 10765.
| 9737 through 9739 | 10770.
| 9741 through 9748 | 10774 through 10776.
| 9751 through 9785 | 10778.
| 9787 | 10781.
| 9788 | 10783 through 10785.
| 9790 through 9792 | 10792.
| 9795 through 9847 | 10794.
| 9849 through 9928 | 10798.
| 9930 through 9937 | 10799.
| 9940 through 9942 | 10806 through 10808.
| 9944 through 9952 | 10811.
| 9955 through 9972 | 10814 through 10822.
| 9974 through 9989 | 10824.
| 9991 through 9995 | 10825.
| 9997 through 10004 | 10829.
| 10006 through 10009 | 10831.
| 10011 | 10917.

Model 206A & B; Blade, P/N 206-016-201-133, S/N with prefix “CS” and no “V” suffix | Model 206A, B, L, L-1, L-3, & L-4, Blade, P/N 206-016-201-131, S/N with prefix “CS” and no “V” suffix
| 10013 through 10018 | 10923.
| 10021 through 10030 | 10931.
| 10034 | 10936.
| 10036 through 10057 | 10937.
| 10061 through 10082 | 10940.
| 10090 through 10092 | 10943.
| 10094 through 10100 | 10945.
| 10116 | 10947.
| 10119 | 10948.
| 10121 | 10964.
| 10123 through 10134 | 10965.
| 10136 through 10140 | 10973.
| 10142 through 10144 | 10982.
| 10146 through 10172 | 10985.
|  | 10986.

Compliance: Required as indicated.

To prevent blade failure and subsequent loss of control of the helicopter, do the following:

(a) Before further flight, unless accomplished previously, and before installing any blade with a P/N and S/N listed in the applicability section of this AD, clean the blade. Using a 10X or higher magnifying glass, inspect both sides of each blade for a deformation, a crack, and a bent or deformed weight in the area shown in Figure 1 of this AD.

Note 1: Paint irregularities on the blade may indicate a crack.

(b) After doing paragraph (a) of this AD, at the following intervals, clean both sides of each blade and do either paragraph (1) or (2) as follows:

(1) At intervals not to exceed 12 hours time-in-service (TIS), using a 10X or higher magnifying glass, inspect both sides of each blade for a deformation, a crack, and a bent or deformed weight in the area shown in Figure 1 of this AD, or

(2) Inspect and check both sides of each blade for a deformation, a crack, and a bent or deformed weight in the area shown in Figure 1 of this AD as follows:

(i) Using a 10X or higher magnifying glass, inspect at intervals not to exceed 24 hours TIS, and

(ii) Check at intervals not to exceed 3 hours TIS between the inspections required by paragraph (b)(2)(i) of this AD. An owner/operator (pilot), holding at least a private pilot certificate, may perform this visual check and must enter compliance with this paragraph into the helicopter maintenance records by following 14 CFR sections 43.11 and 91.417(a)(2)(v).

(c) Before further flight, replace any blade that has a deformation, a crack, or a bent or deformed weight with an airworthy blade.

Note 2: Bell Helicopter Textron Alert Service Bulletin No. 206-04-100 for Model 206A and B and No. 206L-04-127 for Model 206L series, both Revision B, both dated May 28, 2004, pertain to the subject of this AD.

(d) To request a different method of compliance or a different compliance time for this AD, follow the procedures in 14 CFR 39.19. Contact the Safety Management Group, Rotorcraft Directorate, FAA, for information about previously approved alternative methods of compliance.

(e) This amendment becomes effective on December 16, 2004.

Note 3: The subject of this AD is addressed in Transport Canada (Canada) AD No. CF-2004-05R1, dated June 28, 2004.

Issued in Fort Worth, Texas, on November 22, 2004.
Kim Smith,
Acting Manager, Rotorcraft Directorate, Aircraft Certification Service.

[FR Doc. 04-26425 Filed 11-30-04; 8:45 am]

BILLING CODE 4910-13-P